DEPARTMENT OF COMMERCE

Patent and Trademark Office

Public User ID Badging

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before February 28, 2005.

ADDRESSES: You may submit comments by any of the following methods:

• E-mail: Susan.Brown@uspto.gov. Include “0651-0041 comment” in the subject line of the message.

• Mail: Susan K. Brown, Records Officer, Office of the Chief Information Officer, Office of Data Architecture and Services, Data Administration Division, U.S. Patent and Trademark Office, P.O. Box 1450, Alexandria, VA 22313-1450.

FOR FURTHER INFORMATION CONTACT: Requests for additional information regarding online access cards or user training should be directed to Terry Howard, Acting Manager, Public Search Facilities, U.S. Patent and Trademark Office, P.O. Box 1450, Alexandria, VA 22313-1450; by telephone at (571) 272-3258; or by electronic mail at Terry.Howard@uspto.gov.

Requests for additional information regarding security identification badges should be directed to J.R. Garland, Director, Security Office, U.S. Patent and Trademark Office, P.O. Box 1450, Alexandria, VA 22313-1450; by telephone at (703) 306-9000; or by electronic mail at Calib.Garland@uspto.gov.

SUPPLEMENTARY INFORMATION

I. Abstract

The United States Patent and Trademark Office (USPTO) is required by 35 U.S.C. 41(i)(1) to maintain a Public Search Facility to provide patent and trademark collections for the public to search and retrieve information. The Public Search Facilities are maintained for public use with paper and automated search files and trained staff to assist searchers.

The public user identification cards included in this collection are being modified to allow for a separate security identification badge with photograph that will be issued by the USPTO Office of Security. Users of the public search facilities will continue to need a user identification card, now referred to as an online access card, in order to access the search systems in the Public Search Facilities. In addition to the security badges and online access cards, the USPTO is adding forms to this collection for public users who wish to register for training classes in using the electronic search systems.

Under the authority provided in 41 CFR Part 102-81, the USPTO is upgrading the security procedures at its facilities. The USPTO issues public user identification badges to those in the public who wish to use the Public Search Facilities and other office areas of the USPTO under the current collection 0651-0041. The USPTO is currently in the process of moving to a new location in Alexandria, Virginia. At the new facility, the public will continue to receive user identification badges for Public Search Room use.

The application procedures for identification badges are being updated. Users will now apply for a badge in person at the USPTO Office of Security by providing the necessary information and presenting a valid form of identification with photograph. As before, badges will include a color photograph of the user and must be worn at all times while at the USPTO facilities.

In order to maintain and control the patent and trademark collections so that the information is available to the public, the USPTO will issue online access cards to customers who wish to use the Public Search Facilities. Online access cards are required for access to all Public Search Facilities and their online systems. Customers may apply for an online access card by completing the application at the Public Search Room reception desk and providing proper identification. User information is stored in an electronic database and can be updated as necessary. Replacements for lost cards can also be reissued upon verification of the identity of the requestor. The plastic online access cards include a bar-coded user number and an expiration date. Users may renew their cards by validating and updating the required information.

The online access card system is designed to enable the USPTO to control access to the resources at the Patent Search Facilities and to track statistics for patent and trademark search services. The online access cards also allow the USPTO to identify and contact anyone misusing the search facilities. The USPTO counsels and sanctions users who mishandle its equipment or destroy, misfile, or remove documents from its collections.

The USPTO offers public searchers training courses on the advanced online search systems available at the USPTO Public Search Facilities. Customers may register for a training course by submitting the enrollment form by mail, fax, or in person at the Public Search Facilities and paying the appropriate fee.

II. Method of Collection

The applications for online access cards and security identification badges are completed on site and handed to a USPTO staff member for issuance. User training application forms may be mailed, faxed, or hand delivered to the USPTO.

III. Data

OMB Number: 0651-0041.

Form Number(s): PTO-2030, PTO-2224.

Type of Review: Revision of a currently approved collection.

Affected Public: Individuals or households; businesses or other for-profits; not-for-profit institutions; farms; the Federal Government; and state, local or tribal governments.

Estimated Number of Respondents: 13,138 responses per year.

Estimated Time Per Response: The USPTO estimates that it will take the public approximately 5 minutes (0.08 hours) to gather the necessary information, prepare the form, and submit the completed application for an online access card (PTO-2030), and approximately 10 minutes (0.17 hours) to verify the information with the USPTO staff and be issued the card. Renewal or replacement of an online access card is estimated to take approximately 5 minutes (0.08 hours).

The USPTO also estimates that it will take the public approximately 5 minutes (0.08 hours) to prepare and submit the application for a security identification badge (PTO-2224) or to obtain a replacement security identification badge, and 10 minutes (0.17 hours) to prepare and submit a user training application form.

Estimated Total Annual Respondent Burden Hours: 1,260 hours per year.

Estimated Total Annual Respondent Cost Burden: $187,740 per year. The USPTO estimates that of those users requesting online access cards, security identification badges, and training courses, approximately ⅓ of the users are attorneys and ⅔ are paraprofessionals. Using ⅓ of the professional rate of $286 per hour for associate attorneys in private firms and ⅔ of the paraprofessional rate of $81 per hour, the estimated rate for respondents to this collection will be approximately $149 per hour.

Item | Estimated time for response (minutes) | Estimated annual responses | Estimated annual burden hours
Application for Public User ID (Online Access Card) (PTO-2030) | 5 | 4,817 | 385
Issue Online Access Card | 10 | 2,259 | 384
Renew Online Access Card | 5 | 2,558 | 205
Replace Online Access Card | 5 | 140 | 11
User Training Application Forms | 10 | 64 | 11
Security Identification Badges for Public Users (PTO-2224) | 5 | 3,000 | 240
Replace Security Identification Badge | 5 | 300 | 24
Total |  | 13,138 | 1,260

Estimated Total Annual Non-hour Respondent Cost Burden: $8,397. There are no capital start-up, maintenance, or recordkeeping costs associated with this information collection. However, this collection does have annual (non-hour) costs in the form of filing fees and postage costs.

There are no application or renewal fees for online access cards or security identification badges. However, there is a $15 fee for issuing a replacement online access card or a replacement security identification badge. The USPTO estimates that it will reissue approximately 140 online access cards and 300 security badges annually that have been lost or need to be replaced, for a total of $6,600 per year in replacement fees.

There are registration fees for the user training courses offered at the Public Search Facilities. The regular cost for a public course is $25 per class, and individual instruction may also be arranged for $120 per class. The USPTO estimates that it will receive 62 registrations for public courses and 2 registrations for individual instruction per year, for a total of $1,790 in training registration fees. Therefore, this collection has a total of $8,390 in filing fees in the form of online access card replacement fees, security identification badge replacement fees, and training registration fees.

Item | Estimated annual responses | Fee amount ($) | Estimated annual fee costs ($)
Application for Public User ID (Online Access Card) (PTO-2030) | 4,817 | 0.00 | 0.00
Issue Online Access Card | 2,259 | 0.00 | 0.00
Renew Online Access Card | 2,558 | 0.00 | 0.00
Replace Online Access Card | 140 | 15.00 | 2,100.00
User Training Application Forms (Public Course) | 62 | 25.00 | 1,550.00
User Training Application Forms (Individual Course) | 2 | 120.00 | 240.00
Security Identification Badges for Public Users (PTO-2224) | 3,000 | 0.00 | 0.00
Replace Security Identification Badge | 300 | 15.00 | 4,500.00
Total | 13,138 |  | 8,390.00

Users may incur postage costs when submitting a user training application form to the USPTO by mail. The USPTO expects that approximately 20 of the estimated 64 training forms received per year will be submitted by mail. The USPTO estimates that the average first-class postage cost for a mailed training form will be 37 cents, for a total postage cost of approximately $7 per year for this collection.

The total non-hour respondent cost burden for this collection in the form of filing fees and postage costs is estimated to be $8,397 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: December 20, 2004.
Susan K. Brown,
Records Officer, USPTO, Office of the Chief Information Officer, Office of Data Architecture and Services, Data Administration Division.

[FR Doc. 04-28247 Filed 12-27-04; 8:45 am]

BILLING CODE 3510-16-P